DEPARTMENT OF JUSTICE

[OMB Number 1110-XXXX]

Agency Information Collection Activities; Proposed eCollection eComments Requested; Approval of a New Collection

AGENCY: Laboratory Division Federal Bureau of Investigation Laboratory Division Survey of Forensic Science Services, Federal Bureau of Investigation, Department of Justice.

ACTION: 60-Day Notice.

SUMMARY: The Department of Justice (DOJ), Federal Bureau of Investigation (FBI), Laboratory Division (LD) will be submitting the following information collection request to the Office of Management and Budget (OMB) for review and approval in accordance with the Paperwork Reduction Act of 1995. The proposed information collection is published to obtain comments from the public and affected agencies.

DATES: Comments are encouraged and will be accepted for 60 days until January 30, 2018.

FOR FURTHER INFORMATION CONTACT: If you have additional comments, especially on the estimated public burden or associated response time, suggestions, or need a copy of the proposed information collection instrument with instructions or additional information, please contact Cary Oien, United States Department of Justice, Federal Bureau of Investigation, Laboratory Division, 2501 Investigation Parkway, Quantico, VA 22135

SUPPLEMENTARY INFORMATION: This process is conducted in accordance with 5 CFR. Written comments and suggestions from the public and affected agencies concerning the proposed collection of information are encouraged. Your comments should address one or more of the following four points:

Evaluate whether the proposed collection of information is necessary for the proper performance of the functions of the agency, including whether the information will have practical utility;

Evaluate the accuracy of the agency's estimate of the burden of the proposed collection of information, including the validity of the methodology and assumptions used;

Evaluate whether and if so how the quality, utility, and clarity of the information to be collected can be enhanced; and

Minimize the burden of the collection of information on those who are to respond, including through the use of appropriate automated, electronic, mechanical, or other technological collection techniques or other forms of information technology, e.g., permitting electronic submission of responses.

Overview of This Information Collection

(1) Type of Information Collection: Approval of a new collection.

(2) Title of the Form/Collection: Federal Bureau of Investigation Laboratory Division Survey of Forensic Science Services.

(3) Agency form number: The form is unnumbered.

(3) Affected public who will be asked or required to respond, as well as a brief abstract: This form will be utilized by the FBI Laboratory Division to collect feedback from state and local law enforcement agencies that have used the FBI Laboratory Division for forensic science examinations. The results of this survey will inform a five year forensic discipline portfolio projection for the Laboratory Division. The Laboratory Division is using this survey as a tool to answer questions about what their specific forensic science priorities are and how they value each forensic discipline; whether the Laboratory Division is servicing these specific needs; what they perceive as strengths and weaknesses of the FBI LD, and if they've identified trends in criminal investigations that a laboratory should be addressing.

(4) An estimate of the total number of respondents and the amount of time estimated for an average respondent to respond: It is estimated that 1000 respondents will respond. We estimate the form will be completed within approximately 30 minutes.

(5) An estimate of the total public burden (in hours) associated with the collection: There are an estimated 500 total annual burden hours associated with this collection.

If additional information is required contact: Melody Braswell, Department Clearance Officer, United States Department of Justice, Justice Management Division, Policy and Planning Staff, Two Constitution Square, 145 N Street NE., 3E.405A, Washington, DC 20530.

Dated: November 28, 2017.
Melody Braswell,
Department Clearance Officer for PRA, U.S. Department of Justice.

[FR Doc. 2017-25893 Filed 11-30-17; 8:45 am]

BILLING CODE 4410-02-P